DEPARTMENT OF TRANSPORTATION

Federal Aviation Administration

14 CFR Part 39

[Docket No. FAA-2004-19762; Directorate Identifier 2004-NM-168-AD]

RIN 2120-AA64

Airworthiness Directives; Airbus Model A318, A319, A320, and A321 Series Airplanes

AGENCY: Federal Aviation Administration (FAA), DOT.

ACTION: Notice of proposed rulemaking (NPRM).

SUMMARY: The FAA proposes to adopt a new airworthiness directive (AD) for all Airbus Model A318, A319, A320, and A321 series airplanes. This proposed AD would require an inspection of the spoiler servo control for certain part numbers and corrective action if necessary. This proposed AD is prompted by a report of a broken piston rod bearing of the spoiler servo control. We are proposing this AD to prevent breakage of the piston rod bearing, which could cause loss of the associated hydraulic system and spoiler extension, and could result in reduced controllability of the airplane.

DATES: We must receive comments on this proposed AD by January 6, 2005.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2004-19762; the directorate identifier for this docket is 2004-NM-168-AD.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19762; Directorate Identifier 2004-NM-168-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A318, A319, A320, and A321 series airplanes fitted with GOODRICH spoiler actuators part number (P/N) 31077-050, -060, -070, -110 or -112. The DGAC advises that an incorrect manufacturing process resulted in the seal groove radii of the piston rod bearing of the spoiler servo control being smaller than the drawing specification. This condition, if not corrected, could result in reduced fatigue life of the piston rod bearing and consequent breakage, which could cause loss of the associated hydraulic system and spoiler extension, and could result in reduced controllability of the airplane.

Relevant Service Information

Airbus has issued Service Bulletin A320-27-1158; and Service Bulletin A320-27-1159; both including Appendices 01 and 02; both dated May 26, 2004. The service bulletins describe procedures for inspecting the spoiler servo control for part numbers 31077-050, -060, -070, -110, and -112, and corrective action if necessary. The corrective action includes replacing the spoiler servo control with a new or modified spoiler servo control.

The inspections are to be done at the following positions:

• For Model A318, A319, and A321 series airplanes: Positions 1 through 5

• For Model A320 series airplanes on which Airbus modification 26335 and Airbus Service Bulletin A320-27-1115, dated October 27, 1997; and Revision 01, dated June 22, 1999; has not been done: Positions 1, 2, and 3

• For Model A320 series airplanes on which Airbus modification 26335 or Airbus Service Bulletin A320-27-1115, dated October 27, 1997; or Revision 01, dated June 22, 1999; has been done: Positions 1 through 5

Accomplishing the actions specified in the service information is intended to adequately address the unsafe condition. The DGAC mandated the service information and issued French airworthiness directive F-2004-122, dated July 21, 2004, to ensure the continued airworthiness of these airplanes in France.

Airbus Service Bulletins A320-27-1158 and A320-27-1159, both dated May 26, 2004, refer to Goodrich Service Bulletin 31077-27-14, dated May 24, 2004, as an additional source of service information for modifying the spoiler servo control.

FAA's Determination and Requirements of the Proposed AD

These airplane models are manufactured in France and are type certificated for operation in the United States under the provisions of §21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as discussed under “Differences Between the Proposed AD and the Service Bulletins.”

Differences Between the Proposed AD and the Service Bulletins

Operators should note that Airbus Service Bulletin A320-27-1158; and Service Bulletin A320-27-1159; both dated May 26, 2004; specify to contact Goodrich if the part number of the servo control is missing. However, this proposed AD requires operators to replace the spoiler servo control with a new or modified spoiler servo control if operators are unable to determine the part number.

Although the Accomplishment Instructions of Airbus Service Bulletins A320-27-1158 and A320-27-1159 describe procedures for reporting certain information to the manufacturer, this proposed AD would not require that action.

Clarification of Inspection Type

Airbus Service Bulletins A320-27-1158 and A320-27-1159 specify to do a “visual inspection” to determine the part number of the spoiler servo controls. This proposed AD would require a “general visual inspection” for these actions. We have included the definition for a general visual inspection in a note in this proposed AD.

Differences Between the Proposed AD and French Airworthiness Directive

French airworthiness directive F-2004-122, dated July 21, 2004, has an effectivity of “AIRBUS A318, A319, A320 and A321 aircraft, all certified models, all serials numbers, fitted with GOODRICH spoiler actuators P/N 31077-050, -060, -070, -110 or -112.” However, because spoiler actuators are interchangeable on Airbus Model A318, A319, A320, and A321 series airplanes, airplanes not fitted with the spoiler actuators P/N 31077-050, -060, -070, -110 or “112 may have a spoiler actuator P/N 31077-050, -060, -070, -110 or “112 installed in the future by operators during normal maintenance. Therefore, the applicability of this proposed AD includes all Airbus Model A318, A319, A320, and A321 series airplanes. Both the proposed AD and French airworthiness directive require an inspection for the part number of the spoiler actuator (spoiler servo control).

Clarification of Actions in Proposed AD and the Service Bulletins

Although the Accomplishment Instructions of Airbus Service Bulletin A320-27-1158 do not specify procedures for Model A318 and A319 series airplanes, those models are specified in the Reason/Description/Operational Consequences section of the service bulletin, which recommends inspecting positions 2, 3, 4, and 5 for those models. Those models are also specified in the note within the Effectivity, section 1.A., of the service bulletin. This proposed AD would require inspections for Model A318 and A319 series airplanes at positions 2, 3, 4, and 5; and corrective actions if necessary.

Although the Accomplishment Instructions of Airbus Service Bulletin A320-27-1159 do not specify procedures for Model A318 and A319 series airplanes, those models are specified in the Reason/Description/Operational Consequences section of the service bulletin, which recommends inspecting position 1 for those models. Those models are also specified in the note within the Effectivity, section 1.A., of the service bulletin. This proposed AD would require inspections for Model A318 and A319 series airplanes at position 1 and corrective actions if necessary.

Costs of Compliance

The following table provides the estimated costs for U.S. operators to comply with this proposed AD.

Estimated Costs
Action | Work hours | Average labor rate per hour | Cost per airplane | Number of U.S.-registered airplanes | Fleet cost
Inspection | 3-5 | $65 | $195-$325 | 648 | $126,360-$210,600

Authority for this Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-19762; Directorate Identifier 2004-NM-168-AD.

Comments Due Date

(a) The Federal Aviation Administration must receive comments on this AD action by January 6, 2005.

Affected ADs

(b) None.

Applicability

(c) This AD applies to all Airbus Model A318, A319, A320, and A321 series airplanes, certificated in any category.

Unsafe Condition

(d) This AD was prompted by a report of a broken piston rod bearing of the spoiler servo control. We are issuing this AD to prevent breakage of the piston rod bearing, which could cause loss of the associated hydraulic system and spoiler extension, and could result in reduced controllability of the airplane.

Compliance

(e) You are responsible for having the actions required by this AD performed within the compliance times specified, unless the actions have already been done.

Phase 1 Inspection

(f) Within 12 months after the effective date of this AD, do a general visual inspection for the part number of the spoiler servo control at the applicable locations specified in Table 1 of this AD, in accordance with Airbus Service Bulletin A320-27-1158, including Appendices 01 and 02, dated May 26, 2004.

Note 1: For the purposes of this AD, a general visual inspection is: “A visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or droplight and may require removal or opening of access panels or doors. Stands, ladders or platforms may be required to gain proximity to the area being checked.”

Table 1.—Phase 1 Spoiler Servo Control Inspection
For Airbus model— | Inspect spoiler servo controls at—
A318 and A319 series airplanes | Positions 2, 3, 4, and 5.
A320 series airplanes | Position 2.
A321 series airplanes | Positions 2, 3, and 4.

Phase 2 Inspection

(g) Within 30 months after the effective date of this AD, do a general visual inspection for the part number of the spoiler servo control at the applicable locations specified in Table 2 of this AD, in accordance with Airbus Service Bulletin A320-27-1159, including Appendix 01 and 02, dated May 26, 2004.

Table 2.—Phase 2 Spoiler Servo Control Inspection
For Airbus model— | Inspect spoiler servo controls at—
A318 and A319 series airplanes | Position 1.
A320 series airplanes on which Airbus modification 26335 and Airbus Service Bulletin A320-27-1115, dated October 27, 1997; and Revision 01, dated June 22, 1999; has not been done | Positions 1 and 3.
A320 series airplanes on which Airbus modification 26335 or Airbus Service Bulletin A320-27-1115, dated October 27, 1997; or Revision 01, dated June 22, 1999; has been done | Positions 1, 3, 4, and 5.
A321 series airplanes | Positions 1 and 5.

Corrective Action

(h) If, during any inspection specified in paragraph (f) or (g) of this AD, part number (P/N) 31077-050, -060, -070, -110, or -112 is found or if unable to determine the P/N, before further flight, replace the spoiler servo control with a new or modified spoiler servo control, in accordance with Airbus Service Bulletin A320-27-1158; or Airbus Service Bulletin A320-27-1159; both including Appendices 01 and 02; both dated May 26, 2004; as applicable.

Note 2: Airbus Service Bulletins A320-27-1158 and A320-27-1159 refer to Goodrich Service Bulletin 31077-27-14, dated May 24, 2004, as an additional source of service information for modifying the spoiler servo control.

Reporting Not Required

(i) Although Airbus Service Bulletins A320-27-1158 and A320-27-1159 specify to submit certain information to the manufacturer, this AD does not include that requirement.

Parts Installation

(j) As of the effective date of this AD, no person may install a spoiler servo control, P/N 31077-050, -060, -070, -110, or -112, on any airplane, unless it has been modified according to Airbus Service Bulletin A320-27-1158; or Airbus Service Bulletin A320-27-1159; both including Appendices 01 and 02; both dated May 26, 2004.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-122, dated July 21, 2004, also addresses the subject of this AD.

Issued in Renton, Washington, on November 26, 2004.
Ali Bahrami,
Manager, Transport Airplane Directorate, Aircraft Certification Service.

[FR Doc. 04-26797 Filed 12-6-04; 8:45 am]

BILLING CODE 4910-13-P